DEPARTMENT OF TRANSPORTATION

National Highway Traffic Safety Administration

[U.S. DOT Docket Number NHTSA-2017-0025]

Notice and Request for Comments

AGENCY: National Highway Traffic Safety Administration (NHTSA), U.S. Department of Transportation (DOT).

ACTION: Notice and request for comments.

SUMMARY: The DOT invites public comments about our intention to request the Office of Management and Budget (OMB) approval to renew an information collection. Before a Federal agency can collect certain information from the public, it must receive approval from OMB. Under procedures established by the Paperwork Reduction Act of 1995, before seeking OMB approval, Federal agencies must solicit public comment on proposed collections of information, including extensions and reinstatement of previously approved collections.

DATES: Written comments should be submitted by April 24, 2018.

ADDRESSES: You may submit comments [identified by DOT Docket No. NHTSA-2017-0025] through one of the following methods:

• Federal eRulemaking Portal: http://www.regulations.gov. Follow instructions for submitting comments.

• Fax: 202-493-2251.

• Mail: Docket Management Facility; U.S. Department of Transportation, 1200 New Jersey Avenue SE, West Building, Ground Floor, Room W12-140, Washington, DC 20590.

• Hand Delivery/Courier: 1200 New Jersey Avenue SE, West Building Ground Floor, Room W12-140, Washington, DC 20590, between 9 a.m. and 5 p.m., Monday through Friday, except Federal Holidays. Telephone: 1-800-647-5527.

Instructions: Submissions must include the agency name and docket number for this proposed collection of information. Note all comments received will be posted without change to http://www.regulations.gov, including any personal information provided.

Docket: For access to the docket to read background documents or comments received, go to http://www.regulations.gov at any time or to Room W12-140 on the ground level of the DOT Building, 1200 New Jersey Avenue SE, West Building Ground Floor, Washington, DC 20590 between 9 a.m. and 5 p.m., Monday through Friday, except Federal Holidays.

FOR FURTHER INFORMATION CONTACT: Ms. Carlita Ballard, International Policy, Fuel Economy and Consumer Programs (NRM-310), 202-366-5222, National Highway Traffic Safety Administration, W43-439, Department of Transportation, 1200 New Jersey Avenue SE, Washington, DC 20590. Please identify the relevant collection of information by referring to its OMB Control Number.

SUPPLEMENTARY INFORMATION: Under the Paperwork Reduction Act of 1995, before an agency submits a proposed collection of information to OMB for approval, it must first publish a document in the Federal Register providing a 60-day comment period and otherwise consult with members of the public and affected agencies concerning each proposed collection of information.

The OMB has promulgated regulations describing what must be included in such a document. Under OMB's regulation (at 5 CFR 1320.8(d)), an agency must ask for public comment on the following:

(i) Whether the proposed collection of information is necessary for the proper performance of functions of the agency, including whether the information will have practical utility;

(ii) The accuracy of the agency's estimate of the burden of the proposed collection of information, including the validity of the methodology and assumptions used;

(iii) How to enhance the quality, utility, and clarity of the information to be collected;

(iv) How to minimize the burden of the collection of information on those who are to respond, including the use of appropriate automated, electronic, mechanical, or other technological collection techniques, or other forms of information technology, e.g., permitting electronic submission of responses.

In compliance with these requirements, NHTSA asks for public comments on the following proposed collections of information:

Title: Consolidated Federal Motor Vehicle Theft Prevention Standard and Procedures for Selecting Lines to Be Covered by The Theft Prevention Standard.

OMB Control Number: 2127-0539.

Type of Request: Requested Expiration Date of Approval.

Abstract: For 49 CFR parts 541 and 542:

49 CFR Part 541: The Theft Act requires specified parts of high-theft vehicles to be marked with vehicle identification numbers. All passenger cars and multipurpose passenger vehicles with a gross vehicle weight rating of 6,000 pounds or less, and light duty trucks with major parts that are interchangeable with the majority of the covered major parts of passenger motor vehicles covered by the standard are required to be parts-marked.

49 CFR Part 542: Manufacturers of light duty trucks must identify new model introductions that are likely to be high-theft vehicle lines as defined in 49 U.S.C. 33104. The specific vehicle lines are to be selected by agreement between the manufacturer and the agency. NHTSA's procedures for selecting high-theft vehicle lines are contained in 49 CFR part 542.

Affected Public: Vehicle manufacturers.

Estimated Number of Respondents: 23.

Frequency: Intermittently.

Number of Responses: 25.

Estimated Total Annual Burden Hours: 150,550.

Estimated Total Annual Burden Cost: $55,143,430 (approximately $55.1 million).

Public Comments Invited: You are asked to comment on any aspect of this information collection, including (a) whether the proposed collection of information is necessary for the Department's performance; (b) the accuracy of the estimated burden; (c) ways for the Department to enhance the quality, utility and clarity of the information collection; and (d) ways the burden could be minimized without reducing the quality of the collected information. The agency will summarize and/or include your comments in the request for OMB's clearance of this information collection.

Authority: The Paperwork Reduction Act of 1995, 44 U.S.C. Chapter 35; and delegation of authority at 49 CFR 1.95 and 501.8.

Raymond R. Posten,
Associate Administrator for Rulemaking.

[FR Doc. 2018-03681 Filed 2-22-18; 8:45 am]

BILLING CODE 4910-59-P